DEPARTMENT OF THE INTERIOR

Fish and Wildlife Service

[FWS-HQ-WSFR-2022-N010; 91400-5110-0000; 91400-9410-0000]

Multistate Conservation Grant Program; Priority Lists for Fiscal Years 2019, 2020, 2021, and 2022

AGENCY: Fish and Wildlife Service, Interior.

ACTION: Notice.

SUMMARY: We, the U.S. Fish and Wildlife Service (Service), announce receipt of the priority lists of wildlife and sport fish conservation projects from the Association of Fish and Wildlife Agencies (Association) for Federal fiscal years (FYs) 2019, 2020, 2021, and 2022. The Association is required by law to annually submit a list of priority projects to the Service for funding consideration under the Service's Multistate Conservation Grant Program (MSCGP), which funds projects that address regional or national priorities of State fish and wildlife agencies. The Assistant Director for the Service's Wildlife and Sport Fish Restoration program recommends projects on the list to the Service Director for approval. Once projects are awarded, we must publish each priority list in the Federal Register. The FY 2019, 2020, 2021 and 2022 projects have been awarded.

ADDRESSES: Lori Bennett, Multistate Conservation Grants Program, Wildlife and Sport Fish Restoration Program; U.S. Fish and Wildlife Service; 5275 Leesburg Pike; MS: WSFR; Falls Church, VA 22041-3808.

FOR FURTHER INFORMATION CONTACT: Lori Bennett, via phone at 703-358-2033, or via email at Lori_Bennett@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The Fish and Wildlife Programs Improvement and National Wildlife Refuge System Centennial Act of 2000 (Improvement Act; Pub. L. 106-408, Nov. 1, 2020) amended the Wildlife Restoration Act (16 U.S.C. 669 et seq.) and the Sport Fish Restoration Act (16 U.S.C. 777 et seq.) and established the Multistate Conservation Grant Program (now known as the Traditional MSCGP, or T-MSCGP). The Improvement Act authorizes us to award grants of up to $3 million annually from funds available under each of the Acts, for a total of up to $6 million annually. Projects are selected through a competitive process developed collaboratively by State fish and wildlife agency directors, conservation and sportsmen and sportswomen organizations, and industries that support or promote hunting, trapping, and recreational shooting. Projects can be funded under Wildlife Restoration, Sport Fish Restoration, or both, depending on the project activities. The projects to which we award grants must be on a list of priority projects recommended to us by the Association. The Service Director, exercising the authority of the Secretary of the Interior, need not fund all projects on the list, but all projects funded must be on the Association's recommended list. The Improvement Act provides that funding for MSCGP grants is available in the fiscal year it is appropriated and for the following fiscal year, with any funds remaining after two years apportioned among the States in the manner and for the uses specified under the Wildlife Restoration and Sport Fish Restoration Acts.

In addition to the Traditional MSCGP found in the Acts, the President signed the Modernizing the Pittman-Robertson Fund for Tomorrow's Needs Act (Pub. L. 116-94) into law on December 20, 2019. This law, among other measures, created a new Modern Multistate Conservation Grant Program, which makes available up to an additional $5 million for projects designed to support recruitment, retention, and reactivation (“R3”) activities. The Service will cite this as the “Modern Multistate Conservation Grant Program” (R3-MSCGP).

The Association and the Service work cooperatively to manage the T-MSCGP and the R3-MSCGP. The Association sets project criteria, reviews grant applications, and provides project oversight, coordination, and guidance. Applicants must provide certification that no activities conducted under either a T-MSCGP or an R3-MSCGP award will promote or encourage opposition to regulated hunting or trapping of wildlife, or to regulated angling or taking of fish. Eligible project proposals are reviewed and ranked by the Association's committees, who consult with interested nongovernmental organizations that represent conservation organizations, sportsmen and sportswomen organizations, and industries that support or promote fishing, hunting, trapping, recreational shooting, bowhunting, or archery. Their selections become the priority list that is submitted to the Service.

The Association's National Grants Committee recommends the final list of priority projects for both programs to the directors of the State fish and wildlife agencies for their approval by majority vote. By statute, the Association then transmits the final approved list to the Service for funding under the Multistate Conservation Grant Program by October 1 of each FY. The Service then provides an additional review process in accordance with grant regulations within 2 CFR part 200 and awards and administers the financial assistance grants.

Funding Eligibility

Traditional Multistate Conservation Grant Program Funding Eligibility

Recipients awarded under the T-MSCGP may use funds for sport fish or wildlife management and research projects, boating access development, hunter safety and education, aquatic education, fish and wildlife habitat improvements, and other purposes consistent with the enabling legislation.

To be eligible for funding, a project must benefit fish and/or wildlife conservation for at least 26 States, for a majority of the States in any one Service Region, or for one of the regional associations of State fish and wildlife agencies. Grants are awarded to one or more States, a group of States, or one or more nongovernmental organizations. For the purpose of carrying out the National Survey of Fishing, Hunting, and Wildlife-Associated Recreation, we may award grants to the Service, if requested by the Association, or to a State or a group of States. The Association also requires that all project proposals address the Association's selected national strategic priorities for both MSCGPs, which are announced annually at the same time requests for proposals are sent out.

Modern Multistate Conservation Grant Program Funding Eligibility

The Modern Multistate Conservation Grant Program (R3-MSCGP) is a new program, which began awarding grants in FY 2020. The program specifically targets projects that address hunter recruitment and recreational shooter recruitment and that promote a national hunting and shooting sport recruitment program, including related communication and outreach activities.

Fiscal Year Tables

The following sections of this notice set forth the award funding and project priorities by fiscal year for the years FY 2019 through FY 2022. The list below provides abbreviations used in the tables:

Abbreviations Used in Tables

WR Funding Pittman-Robertson Wildlife Restoration funds

SFR Funding Dingell-Johnson Sport Fish Restoration funds

CITES Convention on International Trade in Endangered Species

ABC American Bird Conservancy

AFS American Fisheries Society

AFWA Association of Fish and Wildlife Agencies

ASA American Sportfishing Association

ATA Archery Trade Association

BCC Boone and Crockett Club

BCHA Back Country Hunters and Anglers

CAHSS Council to Advance Hunting and the Shooting Sports

CSU Colorado State University

CU Cornell University

CWA California Waterfowl Association

CWD Chronic Wasting Disease

DWF Delta Waterfowl Foundation

FAF Future Angler Foundation

GWF Georgia Wildlife Federation

IDNR Iowa Department of Natural Resources

IFC Instream Flow Council, Inc.

IHEA International Hunter Education Association—USA

MAFWA Midwest Association of Fish and Wildlife Agencies

MDNR Michigan Department of National Resources

MMWF Max McGraw Wildlife Federation

MSU Michigan State University

NAA National Archery Association of the United States

NCLEEF National Conservation Law Enforcement Education Foundation

NCSU North Carolina State University

NEAFWA Northeast Association of Fish and Wildlife Agencies

NMDGF New Mexico Department of Game and Fish

NMWF New Mexico Wildlife Federation

NORC National Opinion Research Center

NS National Survey of Fishing, Hunting, and Wildlife-Associated Recreation

NSSF National Shooting Sports Foundation

NWF National Wildlife Federation

NWTF National Wild Turkey Federation

OSCF Outdoor Stewards of Conservation Foundation, Inc.

PF Pheasants Forever

PSMFC Pacific States Marine Fisheries Commission

RBFF Recreational Boating & Fishing Foundation

SAF Sportsmen's Alliance Foundation

SCIF Safari Club International Foundation

SCWDS Southeastern Cooperative Wildlife Disease Study

SEAFWA Southeastern Association of Fish and Wildlife Agencies

SSSF Scholastic Shooting Sports Foundation

TRCP Theodore Roosevelt Conservation Partnership

TU Trout Unlimited

UDWR Utah Division of Wildlife Resources

UGA University of Georgia

USFWS United States Fish and Wildlife Service

UWM University of Wisconsin—Madison

WAFWA Western Association of Fish and Wildlife Agencies

WEI Wildlife Ecology Institute

WHISPers Wildlife Health Information Sharing Partnership

WMI Wildlife Management Institute

WVDNR West Virginia Department of Natural Resources

Fiscal Year 2019 Awards; Fund Availability and Priority List

The Service's Wildlife and Sport Fish Restoration Program (WSFR) had a total of $6,406,590.66 for awards in FY19 from funds carried over from FY 2018, as well as funding that had previously been sequestered; the total request for projects was $5,817,835.55, leaving a balance of $588,755.11. The Association provided the Service with a priority list of 39 projects, which included the 3 approved components of the 2016-2021 National Survey of Fishing, Hunting, and Wildlife-Associated Recreation project. The FY 2019 priority list is in table 1. The projects in this list have been awarded.

Table 1—FY 2019 Traditional Multistate Conservation Grant Program Priority List
ID | Title | Recipient | WR* funding | SFR funding | Total FY 2019 grant
1 | Multistate Conservation Grant Program Coordination | AFWA | $57,900 | $57,900 | $115,800
2 | Coordination of Farm Bill Program Implementation to Optimize Fish and Wildlife Benefits to the States | AFWA | 82,872 | 55,248 | 138,120
3 | Coordination of State Fish and Wildlife Agencies' Authority to Manage Resources in Concert with Federal Actions Required by CITES | AFWA | 40,800 | 40,800 | 81,600
4 | State Fish & Wildlife Agency Technical Workgroup for the 2021 National Survey | AFWA | 52,285.80 | 52,285.80 | 104,571.60
5 | Coordinating and Planning National-Scale Conservation Initiatives through Communications | AFWA | 20,000 | 20,000 | 40,000
6 | Implementation and Evaluation of the National Conservation Outreach Strategy | AFWA | 61,500 | 61,500 | 123,000
7 | State Fish & Wildlife Agency Director Travel | AFWA | 50,000 | 50,000 | 100,000
8 | Susceptibility of Common North American Game Birds to West Nile Virus | SCWDS | 81,902 | 0 | 81,902
9 | Management Assistance Team and National Conservation Leadership Institute | AFWA | 299,326.20 | 299,326.20 | 598,652.40
10 | Conserving Fish Habitat Collaboratively in the United States Through the National Fish Habitat Partnership | AFWA | 0 | 250,680 | 250,680
11 | Supporting Undergraduate and Legal Education and Occupational Experience in Natural Resource Administration | AFWA | 28,500 | 28,500 | 57,000
12 | Development and Testing of an Improved System for Gathering Harvest Information Data | WMI | 149,500 | 0 | 149,500
13 | Evaluating the Promise of Potential Impacts of R3 Efforts Targeting College Students (Year 2) | NCSU | 78,563 | 29,058 | 107,621
14 | Continued Delivery of Trapping Matters Workshops and Updating a Survey of Conservation Professionals | MMWF | 97,500 | 0 | 97,500
15 | Coordination of the Industry, Federal and State Agency Coalition | AFWA | 47,784 | 47,784 | 95,568
16 | Ensuring State Management Authority of Furbearers through a Multi-Agency, Multi-Organization Approach | WEI | 98,395 | 0 | 98,395
17 | Increasing Awareness and Understanding of State Fish and Wildlife Management: Implementing AFWA Strategic Plan Goal 2 | AFWA | 50,000 | 50,000 | 100,000
18 | Assessing Trends in Americans' Attitudes Toward Hunting, Sport Shooting, Fishing and Trapping | NSSF | 20,025.18 | 20,025.18 | 40,050.36
19 | Update and Further Development of Standard Sampling Protocols for Inland Fisheries | AFS | 0 | 77,602 | 77,602
20 | Survey and Gap Analysis of North American Grassland Habitat Conservation Efforts | ABC | 130,272 | 0 | 130,272
21 | National Fish Habitat Partnership Tracking Database (Maintenance, Support, and Enhancement) | PSMFC | 0 | 20,000 | 20,000
22 | Accelerating Development of Effective Leaders in State Fish and Wildlife Agencies | WMI | 63,250 | 63,250 | 126,500
23 | America's Conservation and Hunting Heritage, A National Education Initiative | SCIF | 180,000 | 0 | 180,000
24 | Quantify and Communicate the Benefits from WSFR Excise Tax Payments to Strengthen State-Federal-Industry Relations | NSSF | 86,687.50 | 86,687.50 | 173,375
25 | Creating Millennial-Conservationists: Informing and Engaging the Next Generation | WMI | 74,539.50 | 74,539.50 | 149,079
26 | The Missing Link in R3: Making Mentorship Work | WMI | 162,388 | 0 | 162,388
27 | Ensuring the Viability of the American System of Conservation Funding: Improving the Understanding of Excise-Tax-Based Funding for Conservation | WMI | 74,500 | 74,500 | 149,000
28 | Planning for the Future of Conservation Law Enforcement in the United States | NCLEEF | 228,297.79 | 228,297.79 | 456,595.58
29 | Developing Angler Personas to Improve R3 Marketing | ASA | 0 | 99,800 | 99,800
30 | Facilitation and Updating of the National Hunting and Shooting Sports Action Plan | CAHSS | 170,100 | 18,900 | 189,000
31 | An Internal Look at Outdoor Recreation: Agency, Industry, and Nongovernmental Organization Attitudes Toward Fishing, Hunting, Sport Shooting, and Boating | ASA | 74,865.60 | 74,865.60 | 149,731.20
32 | Locavore R3 Workshops, Teaching States How to Attract and Train Locavores to Become Anglers and Hunters | UDWR | 12,000 | 12,000 | 24,000
33 | Recruiting and Retaining Youth Shooting Sports Participants Through Targeted Marketing, Education, and Peer Networking of Volunteer Coaches | SSSF | 147,673.41 | 0 | 147,673.41
34 | Gettin' Families Fishin': A National Education Initiative | FAF | 0 | 240,000 | 240,000
35 | Improve National Coordination and Conservation Partnerships Through the Development of a Fisheries Gray Literature Database | AFS | 0 | 63,667 | 63,667
36 | Engaging Landowners and Partners in Implementing Farm Bill Programs that Benefit Fish and Wildlife in Riparian Areas | TU | 0 | 30,000 | 30,000
37-NS | Method to Deriving State-Level Estimates from the 2016 NS | U.S Census | 174,333.50 | 174,333.50 | 348,667
38-NS | 2016 Fifty-State Survey Reports | Rockville Institute | 133,786 | 133,786 | 267,572
39-NS | 2021 Coordination of the 2021 NS | USFWS | 126,476.50 | 126,476.50 | 252,953
Totals |  |  | 3,156,022.98 | 2,661,812.57 | 5,817,835.55
* Acronyms and initialisms for all tables are spelled out in the Abbreviations Used in Tables section.

Fiscal Year 2020 Awards; Fund Availability and Priority Lists

Traditional Multistate Conservation Grant Program Fund Availability and Priority List

The Service's WSFR program had $6,939,510.06 available for T-MSCGP awards in FY 2020, after adjusting for sequestered, recovery, and carryover amounts from FY 2019. The total request for projects was $6,928,632.57, leaving a balance of $10,877.49. The Association provided the Service with a priority list of 40 projects, which included the 2 approved components of the 2022 National Survey of Fishing, Hunting, and Wildlife-Associated Recreation project. Please note that the Association's Management Assistance Team proposal requesting $598,799.12 of Multistate funds (Project #25) was provided an additional $150,000 in Federal funds from the Service's National Conservation Training Center. This funding addition was the result of a signed memorandum of agreement between the Service and the Association. The list is in table 2. The projects in this list have been awarded.

Table 2—FY 2020 Traditional Multistate Conservation Grant Program Priority List
ID | Title | Recipient | WR* funding | SFR funding | Total FY 2020 grant
1 | Coordination of Farm Bill Program Implementation to Optimize On-the-Ground Fish and Wildlife Benefits to the States | AFWA | $82,872 | $55,248 | $138,120
2 | Coordinating and Planning National-Scale Conservation Initiatives by State Fish and Wildlife Agencies | AFWA | 60,000 | 60,000 | 120,000
3 | The North American Conservation Education Strategy—update and align toolkit to work for today's conservation educators who offer fish and wildlife-based programs | AFWA | 27,500 | 27,500 | 55,000
4 | Introductory Implementation and Evaluation of the National Conservation Outreach Strategy—Part 2 | AFWA | 69,000 | 69,000 | 138,000
5 | Advancing K-12 conservation education through improved tools for educators exploring the public trust doctrine, North American Model, and related examples of wildlife management | MMWF | 31,680 | 7,920 | 39,600
6 | Words Matter: Determining How to Engage the American Public Through the Language of Conservation | WMI | 61,551.69 | 61,551.69 | 123,103.38
7 | Coordinating and Planning National-Scale Conservation Initiatives Through Effective Communications | AFWA | 20,000 | 20,000 | 40,000
8 | Updating the AFS Blue Book: Standard Methods for Aquatic Pathogen Identification and Fish Health Management | AFS | 0 | 83,406 | 83,406
9 | Characterizing and Mapping Chronic Wasting Disease Prion Strains Across the United States | CSU | 60,138 | 0 | 60,138
10 | Pilot of the WHISPers wildlife mortality event data system | IDNR | 15,240 | 0 | 15,240
11 | Exploring the potential for in utero transmission of CWD prions in white-tailed deer | SCWDS | 99,741 | 0 | 99,741
12 | National Coordination and Technical Assistance for the Prevention, Surveillance, and Management of CWD | WMI | 99,225 | 0 | 99,225
13 | A Novel Genetic Resource To Inform Management of CWD | MDNR | 138,696.59 | 0 | 138,696.59
14 | Coordination of the Industry, Federal and State Agency Coalition | AFWA | 41,727 | 41,727 | 83,454
15 | Angler R3 Program Funding Needs Assessment | RBFF | 0 | 100,929.60 | 100,929.60
16 | Tracking Participation Through Expanded Regional & National License Sales Dashboards | ASA | 109,830 | 109,830 | 219,660
17 | Digital Marketing Techniques to Increase Angler Participation | RBFF | 0 | 340,000 | 340,000
18 | Ensuring the Viability of the American System of Conservation Funding: Improving the Understanding of Excise-tax-based Funding for Conservation | WMI | 64,579.50 | 64,579.50 | 129,159
19 | Increasing Participation and License Sales from Hunter Education Graduates | SAF | 141,350 | 0 | 141,350
20 | Fishing in Schools: A Grassroots Approach to Increasing Angler Participation | ASA | 0 | 266,500 | 266,500
21 | Expansion of R3 and Engagement of the National R3 Implementation Workgroup | CAHSS | 189,600 | 47,400 | 237,000
22 | Sportfishing's 2019 State-Level, Congressional District and Species-Level Economic Impacts | ASA | 0 | 88,400 | 88,400
23 | Coordination of State Fish and Wildlife Agencies' Authority to Manage Wildlife Resources in Concert with Federal Actions Required by International Treaties, Conventions, Partnerships, and Initiatives | AFWA | 47,700 | 47,700 | 95,400
24 | Combating Trafficking and Illegal Commercialization by Strengthening Communication and Coordination among State and National Conservation Agencies' Law Enforcement Investigations and Intelligence Sections | NCLEEF | 125,000 | 125,000 | 250,000
25 | Management Assistance Team and National Conservation Leadership Institute | AFWA | 299,399.56 | 299,399.56 | 598,799.12
26 | Increasing Awareness and Understanding of State Fish and Wildlife Management: Implementing AFWA Strategic Plan Goal 2 | AFWA | 50,000 | 50,000 | 100,000
27 | Supporting Law, Graduate, and Undergraduate Students' Study of Legal Principles and Professional Experience in Conservation Law and Policy Through a Center of Conservation Excellence | NWTF | 70,500 | 70,500 | 141,000
28 | A Collaborative Network-Based Tool for Improved CWD Management in North America | MDNR | 99,000 | 0 | 99,000
29 | Multistate Conservation Grant Program Coordination | AFWA | 60,900 | 60,900 | 121,800
30 | Examining Societal Acceptance of Hunting and Other Consumptive Uses of Wildlife, in Order to Create and Test Agency Communication Strategies That Promote Public Acceptance and Advance Conservation | MMWF | 105,730.65 | 18,658.35 | 124,389
31 | State Fish and Wildlife Agency Technical Workgroup for the 2021 National Survey of Fishing, Hunting, and Wildlife-Associated Recreation (National Survey) | AFWA | 40,250 | 40,250 | 80,500
32 | Capacity Building, Training, and Pilot Testing of the Fish and Wildlife Relevancy Roadmap | WMI | 87,887.50 | 87,887.50 | 175,775
33 | Preparing for the Future of Fish and Wildlife Management | CSU | 69,785.44 | 69,785.44 | 139,570.88
34 | Update and Further Development of Standard Sampling Protocols for Inland Fisheries (Phase 2 of 2) | AFS | 0 | 97,399 | 97,399
35 | Fisheries Research Tracking and Information Exchange Tool | AFS | 0 | 84,373 | 84,373
36 | National Fish Habitat Partnership Project Tracking Database (Maintenance, Support, and Enhancement) | PSMFC | 0 | 20,000 | 20,000
37 | Development of YY Male Broodstocks for Eradication of Invasive Common Carp Populations | WAFWA | 0 | 75,704 | 75,704
38 | Assessing the State of Fisheries Research Agendas in the United States and Outlining Best Practices for Development of Agendas | AFS | 0 | 90,872 | 90,872
39-NS | Coordination Component for the 2022 National Survey of Fishing, Hunting, and Wildlife-Associated Recreation for Year 2020 | USFWS | 130,853.50 | 130,853.50 | 261,707
40-NS | 2022 National Survey of Fishing, Hunting, and Wildlife-Associated Recreation (5 years) | NORC | 807,810 | 807,811 | 1,615,621
Totals |  |  | 3,307,547.43 | 3,621,085.14 | 6,928,632.57
* Acronyms and initialisms for all tables are spelled out in the Abbreviations Used in Tables section.

FY 2020 Modern Multistate Conservation Grant Program Fund Availability and Priority List

FY 2020 was the first year that Modern Multistate Conservation Grant Program (R3-MSCGP) funds became available for award. The Service's WSFR program had $4,705,000 available for R3-MSCGP awards after sequestering $295,000; the total request for projects was the full available amount, leaving a balance of $0. The Service worked with the Association to make these funds available quickly for eligible projects. The Association provided the Service a priority list of 25 projects; the Service was able to award all projects by early December 2020. The list is in table 3.

Table 3—FY 2020 Modern Multistate Conservation Grant Program Priority List
ID | Title | Recipient | Total 2020 R3 award
1 | MAFWA * Regional Small Game Diversity and Inclusion Marketing Toolkit | MAFWA | $179,200
2 | Exploring the R3 Needs and Opportunities of Female Hunters, Shooters, and Archers | CWA | 245,004.50
3 | Helping State Agencies Effectively Recruit and Retain the New Locavore Audience | WMI | 154,000
4 | Strengthening State Agency R3 of Diverse Hunters and Recreational Shooters | TRCP | 35,500
5 | Activating and Converting Target Archers into Hunting and Shooting Sports | NAA | 78,295
6 | Building Community to Retain Women Hunters | NWF | 221,071
7 | Scaling a College-Focused R3 Model | GWF | 175,300
8 | Increase Industry and Agency Relations and Communications by Expanding Partner-with-a-Payer Initiative | NSSF | 146,112.75
9 | Effectively Targeting New Adult Hunters | WMI | 175,825
10 | Increasing Hunting Mentor and Mentee Numbers and Effectiveness | WMI | 203,821
11 | Effective R3 Marketing Strategies | WMI | 297,500
12 | Leveraging Influencers & Content Marketing to Recruit Bowhunters | ATA | 230,000
13 | Email Marketing Best Practices for State Agencies | WMI | 272,305
14 | What is the public really saying about hunting and hunters (and what can we do about it?) | NMDGF | 120,000
15 | Message Testing: National Ad Campaign to Promote Support of and Participation in Hunting and Recreational Shooting | NWTF | 230,658
16 | Advancing R3 Forward | CAHSS | 450,000
17 | Hunting for Conservation Online: A Tool from CLfT to Engage in College R3 Efforts | MMWF | 74,750
18 | Combining States and Industry Resources to Increase R3 Success | NSSF | 278,900
19 | Hunters Connect State Content Delivery System and Database | IHEA | 174,550
20 | Trapping Matters—Communication Message Training Public Harvest of Wildlife | MMWF | 52,250
21 | Frameworks and Standards for R3 Effort and Strategy Evaluation | WMI | 116,149
22 | Development of a Real-time License Data Dashboard | ASA | 239,450
23 | Development of a Hunter Avidity Model to Assess & Improve R3 Participation | SAF | 207,055
24 | Assessing the Quality and Availability of Hunting and Shooting Access in the United States | NSSF | 224,967.75
25 | Hunting and Recreational Shooting Recruitment, Retention, and Reactivation Among American Military Members | SAF | 122,336
Total |  |  | 4,705,000
* Acronyms and initialisms for all tables are spelled out in the Abbreviations Used in Tables section.

FY 2021 Awards; Fund Availability and Priority List

After adjusting for sequestered, recovery, and carryover amounts from FY 2020, the T-MSCGP had $6,515,283 available for award, and the R3-MSCGP had $5,010,000 available. The total request for T-MSCGP projects was $6,488,271.53, leaving a balance of $27,011.47. The total request for R3-MSCGP projects was $3,066,603.90, leaving a balance of $1,943,396.10. Please note that the Association's Management Assistance Team proposal requesting $555,277.37 of Multistate funds (Project #10) also was provided an additional $150,000 in Federal funds from the National Conservation Training Center. This funding addition was the result of a signed Memorandum of Agreement between the Service and the Association. The Association provided the Service with a single Priority List of 39 proposals, consisting of 22 T-MSCGP projects (including 2 approved components of the 2022-2027 National Survey of Fishing, Hunting, and Wildlife-Associated Recreation project) and 17 R3-MSCGP projects. The list is in table 4. The projects in this list have been awarded.

Table 4—FY 2021 Traditional Multistate Conservation Grant Program and Modern Multistate Conservation Grant Program Priority List
ID | Title | Recipient | WR* funding | SFR funding | R3 funding | Total 2021 grant
1 | Communicating the Effects of Climate Change on Fish and Fisheries | AFS | $0 | $111,870 | $0 | $111,870
2 | Surveillance Optimization Project for CWD Dashboard: A Web Application for Disease Visualization and Data-Driven Decisions | CU | 244,946 | 0 | 0 | 244,946
3 | Online Platform for CWD Data Sharing Management in North America | WVDNR | 225,000 | 0 | 0 | 225,000
4 | Fisheries Gray Literature Database State Agency Expansion and Support | AFS | 0 | 105,191 | 0 | 105,191
5 | Preventing the Spread of Rabbit Hemorrhagic Disease (RHDV2) in the United States by Engaging Key Stakeholders in Collaborative Management Solutions | UGA Research Foundation | 149,797 | 0 | 0 | 149,797
6 | Wildlife Viewer Survey: Enhancing Relevancy and Engaging Support from a Broader Constituency | AFWA | 65,300 | 65,300 | 0 | 130,600
7 | An Agency Path Forward: Designing Effective Engagement and Building Capacity for Relevancy | WMI | 149,721.50 | 149,721.50 | 0 | 299,443
8 | State- and Congressional District-Level Economic Impacts for Hunting and Target Shooting | SAF | 100,308 | 0 | 0 | 100,308
9 | Ensuring the Viability of the American System of Conservation Funding: Improving the Understanding of Excise-Tax-Based Funding for Conservation | WMI | 85,932.50 | 85,932.50 | 0 | 171,865
10 | Management Assistance Team and the National Conservation Institute—Leadership Development for AFWA Members and the Conservation Community | AFWA | 277,638.69 | 277,638.68 | 0 | 555,277.37
11 | Instream Flow and Water-Level Conservation Training and Research Center | IFC | 0 | 119,325 | 0 | 119,325
12 | Maintaining Relevancy of the AFWA North American Trapper Education Program for State Fish and Wildlife Agencies | AFWA | 100,000 | 0 | 0 | 100,000
13 | Coordination of Farm Bill Program Implementation to Optimize On-the-Ground Fish and Wildlife Benefits to the States | AFWA | 84,819.60 | 56,546.40 | 0 | 141,366
14 | Coordination of State Fish and Wildlife Agencies' Authority to Manage Wildlife Resources in Concert with Federal Actions Required by International Treaties, Conventions, Partnerships, and Initiatives | AFWA | 64,800 | 64,800 | 0 | 129,600
15 | Supporting Effective Coordination of Regional & National Conservation Efforts Through State Fish & Wildlife Agencies | AFWA | 80,869.80 | 80,869.80 | 0 | 161,739.60
16 | Coordination of the Industry, Federal and State Agency Coalition | AFWA | 30,927 | 30,927 | 0 | 61,854
17 | Expanding the Community of Support for Fish Habitat Partnership Conservation Efforts | AFWA/National Fish Habitat Partnership | 0 | 176,240 | 0 | 176,240
18 | Strengthening Awareness of State Fish and Wildlife Management: Support for Legal Strategy and Conservation Law Education Under MSCGP Strategic Priority 4 | AFWA | 60,800 | 60,800 | 0 | 121,600
19 | Supporting Law, Graduate and Undergraduate Students' Study of Legal Principles and Professional Experience in Conservation Law and Policy and Providing Opportunity for Practicing Lawyers and Judges' Continuing Legal Education on Conservation Law Under MSCGP Strategic Priority 4 | NWTF | 87,033 | 87,033 | 0 | 174,066
20 | Multistate Conservation Grant Program Coordination | AFWA | 45,049.20 | 45,049.20 | 38,613.60 | 128,712
21 | Measuring the Efficacy of State Recruitment, Retention, and Reactivation (R3) Efforts: A Quantitative Approach | WMI | 0 | 0 | 137,530 | 137,530
22 | R3 Specific Evaluation and Social Science Training and Resources for the Modern R3 Practitioner | MAFWA | 0 | 0 | 127,573 | 127,573
23 | Meet Demand by Building Shooting Ranges with Excise Taxes | NSSF | 0 | 0 | 102,500 | 102,500
24 | Effective R3 Marketing Strategies | WMI for the Association of Conservation Information | 0 | 0 | 297,500 | 297,500
25 | Testing and Implementation of the Hunter Avidity Model to Assess & Improve R3 Participation | SAF | 0 | 0 | 112,340 | 112,340
26 | Winning at the Point of Contact: Boosting R3 Response Rates Through Professional Communications | WMI for NEAFWA | 0 | 0 | 135,000 | 135,000
27 | Utilizing Data Driven Marketing Strategies to Enhance New Audience Engagement, R3 Curriculum Development and Program Efficacy | BCHA | 0 | 0 | 156,000 | 156,000
28 | Creating a Hunting Mentor Communication Toolkit | PF for MAFWA | 0 | 0 | 139,865 | 139,865
29 | Modernizing Trapping Matters Professional Development Workshops and Wild Fur Schools Delivery Through Updated Messaging and the Creation of Distance Learning Modules | MMWF | 0 | 0 | 100,000 | 100,000
30 | Converting 2020's Surge of New Firearm and Hunting License Owners into Active Hunters and Target Shooters | NSSF | 0 | 0 | 136,500 | 136,500
31 | Retaining 2020's Surge of Licensed Anglers | AFS | 0 | 188,712 | 0 | 188,712
32 | Asset Creation: National Ad Campaign to Promote Support for and Participation in Hunting and Shooting | NWTF | 0 | 0 | 350,000 | 350,000
33 | Tracking Participation Through Expanded, Faster License Data Dashboards | ASA | 0 | 160,562.16 | 121,125.84 | 281,688
34 | Facilitation of National R3 Strategies | CAHSS | 0 | 0 | 652,850 | 652,850
35 | Effectiveness of Hunter Education Delivery: Finding the Missing Data | IHEA | 0 | 0 | 143,794 | 143,794
36 | Archers USA Varsity Archery Next Step Program Taking Recruitment into Retention, Transitioning the National Archery in the Schools Program Participants into Bowhunters | ATA | 0 | 0 | 175,000 | 175,000
37 | Hunter Education in a Post-COVID-19 World | IHEA | 0 | 0 | 140,412.46 | 140,412.46
38-NS | Coordination Component for the 2022 National Survey of Fishing, Hunting, and Wildlife-Associated Recreation for Year 2020 | USFWS | 132,777.50 | 132,777.50 | 0 | 265,555
39-NS | 2022 National Survey of Fishing, Hunting, and Wildlife-Associated Recreation (5 years) | NORC | 1,251,628 | 1,251,628 | 0 | 2,503,256
Totals |  |  | 3,237,347.79 | 3,250,923.74 | 3,066,603.90 | 9,554,875.43
* Acronyms and initialisms for all tables are spelled out in the Abbreviations Used in Tables section.

FY 2022 Awards; Fund Availability and Priority List

After adjusting for sequestered, recovery, and carryover amounts from FY 2021, the T-MSCGP had $6,598,154.68 available for award. The total request for T-MSCGP projects was $6,571,005.97, leaving a balance of $27,148.71. After adjusting for sequestered, recovery, and carryover amounts from FY 2021, the R3-MSCGP had $7,045,896.10 available. The total request for R3-MSCGP projects was $5,318,864.91, leaving a balance of $1,727,031.19. Please note that the Association's Management Assistance Team proposal requesting $560,000 of Multistate funds (Project #18) was provided an additional $150,000 in Federal funds from the National Conservation Training Center. This funding addition is the result of a signed memorandum of agreement between the Service and the Association. The Association provided the Service with a Priority List of 44 proposals, consisting of 20 T-MSCGP projects (including 2 approved components of the 2022-2027 National Survey of Fishing, Hunting, and Wildlife-Associated Recreation project) and 24 R3-MSCGP projects. The list is in table 5. The projects in this list have been awarded.

Table 5—FY 2022 Traditional Multistate Conservation Grant Program and Modern Multistate Conservation Grant Program Priority List
ID | Title | Recipient | WR* funding | SFR funding | R3 funding | Total 2022 grant
1 | Modernizing Fish Hatchery Management (aka the `Piper Manual' or `Black Book'), the How-to Manual for Practicing Fish Culturists | AFS | $0 | $123,554.60 | $0 | $123,554.60
2 | Utilizing a Novel Genetic Resource to Inform Management of CWD | MDNR | 199,061 | 0 | 0 | 199,061
3 | Improve PKD Diagnostics and Assess the Impact of Tetracapsuloides bryosalmonae Infection on North American Salmonids | MSU | 0 | 145,844.37 | 0 | 145,844.37
4 | Contaminant Loads in Waterfowl of the NE Atlantic Flyway: New Threats and Outdated Advisories | CU | 280,959 | 0 | 0 | 280,959
5 | Burial Disposal of CWD-Infected Carcasses: Migration and Decontamination of Prions in Model Landfill Substrates | UWM | 193,581 | 0 | 0 | 193,581
6 | Advancing Implementation of the Fish and Wildlife Relevancy Roadmap | WMI | 79,425 | 79,425 | 79,425 | 238,275
7 | Ensuring the Viability of the American System of Conservation Funding: Improving the Understanding of Excise-Tax-Based Funding for Conservation | WMI | 75,191 | 65,190 | 0 | 140,381
8 | Social Listening for Relevancy | WMI | 66,187.50 | 66,187.50 | 0 | 132,375
9 | Modernize the Organization, Authority, and Programs of State Fish and Wildlife Agencies Report | WMI | 103,450 | 58,756 | 0 | 162,206
10 | Best Practices for Cultivating Diverse Fish and Wildlife Agency Workforces | CSU | 71,574 | 71,574 | 0 | 143,148
11 | Developing Your Why: An Assessment of WAFWA Member States' DEI Journey | WAFWA | 37,293 | 37,293 | 0 | 74,586
12 | New Mexico Wildlife Federation: Mi Tierra Salvaje | NMWF | 95,400 | 75,000 | 75,000 | 245,400
13 | Development of Consistent Policy and Law to Prevent Translocation of Feral Swine | WMI | 93,555 | 0 | 0 | 93,555
14 | Coordination of Farm Bill Program Implementation to Optimize On-the-Ground Fish and Wildlife Benefits to the States | AFWA | 78,120 | 52,080 | 0 | 130,200
15 | Exploring the motivations and deterrents of wildlife poachers, the true conservation costs of wildlife crime, and developing an approach to ensure restitution, fines, and penalties fit the crimes | BCC | 205,272 | 0 | 0 | 205,272
16 | Strengthening Awareness of State Fish and Wildlife Management: Support for Legal Strategy and Conservation Law Education Under MSCGP Strategic Priority 4 | AFWA | 14,240 | 14,240 | 0 | 28,480
17 | Supporting Undergraduate/Graduate/Law Students' & Post-Graduates' Education & Professional Experience in Conservation Law & Policy | NWTF | 75,452.50 | 75,452.50 | 0 | 150,905
18 | Increasing Conservation Management Capacity Through Skills, Leadership, and Knowledge Development | AFWA | 280,000 | 280,000 | 0 | 560,000
19 | Multistate Conservation Grant Program Management | AFWA | 58,680 | 58,680 | 58,680 | 176,040
20 | Coordination of State Fish and Wildlife Agencies' Authority to Manage Wildlife Resources in Concert with Federal Actions Required by International Treaties, Conventions, Partnerships, and Initiatives | AFWA | 64,800 | 64,800 | 0 | 129,600
21 | Coordination of National-Scale Conservation Efforts by State Fish & Wildlife Agencies: Travel, Industry, Agency and Communications | AFWA | 101,870 | 101,870 | 0 | 203,740
22 | Realtime License Data Dashboard Improvement and Expansion | ASA | 0 | 117,352 | 117,352 | 234,704
23 | The New Future of Hunting and Fishing | WMI | 0 | 0 | 145,030 | 145,030
24 | A National Campaign to Connect Millennials and Generation Z with Hunting, Shooting, and the Outdoors | WMI | 0 | 0 | 470,538 | 470,538
25 | Discovering Family Bowfishing—National Education Initiative | ATA | 0 | 54,600 | 127,400 | 182,000
26 | Phase 3—Launch and Education: National Ad Campaign to Promote Support for and Participation in Hunting and Shooting | NWTF | 0 | 0 | 100,000 | 100,000
27 | Effectively Targeting New Adult Hunters | WMI | 0 | 0 | 158,430 | 158,430
28 | Expanding Relevancy to Include More Diverse Audiences | ATA | 0 | 0 | 71,000 | 71,000
29 | Firearms Fundamentals Course Promotion Through SEAFWA States | SEAFWA | 0 | 0 | 275,000 | 275,000
30 | Social Influencers to Drive R3 in SEAFWA | SEAFWA | 0 | 0 | 300,000 | 300,000
31 | R3 Through Marketing via Pilot States | WMI | 0 | 0 | 292,500 | 292,500
32 | The Hunter's Network National Version | IHEA | 0 | 0 | 248,275 | 248,275
33 | Identifying When to Use In-Person vs Virtual R3 Events | SAF | 0 | 58,219 | 58,219 | 116,438
34 | Development and Implementation of a Learn to Hunt Upland Game Digital Course to Strengthen Strategic R3 Efforts of Diverse Hunters | PF | 0 | 0 | 236,578 | 236,578
35 | Native American Participation Research and Outreach | OSCF | 0 | 0 | 116,000 | 116,000
36 | Delta Waterfowl's University Hunting Program | DWF | 0 | 0 | 284,614 | 284,614
37 | Black Hunters: Reclaiming the Tradition | WMI | 0 | 0 | 263,329 | 263,329
38 | Connecting Different Cultures to Hunting and Fishing Through Food | WMI | 0 | 24,000 | 48,500 | 72,500
39 | Extending Academics Afield to Advance Equity in College R3 Programming | GWF | 0 | 0 | 360,458 | 360,458
40 | Hunters Connect Audience Expansion | IHEA | 0 | 0 | 178,530 | 178,530
41 | MAFWA Small Game Diversity and Inclusion Outreach Toolkit: Phase 2 | MAFWA | 0 | 0 | 220,000 | 220,000
42 | 2022-2024 Facilitation of National R3 Strategies | CAHSS | 0 | 0 | 1,034,006.91 | 1,034,006.91
43-NS | 2022 National Survey of Fishing, Hunting, and Wildlife-Associated Recreation (5 years) | NORC | 1,251,628 | 1,251,628 | 0 | 2,503,256
44-NS | 2022 National Survey Coordination | USFWS | 134,760.50 | 134,760.50 | 0 | 269,521
Totals |  |  | 3,560,499.50 | 3,010,506.47 | 5,318,864.91 | 11,889,870.88
* Acronyms and initialisms for all tables are spelled out in the Abbreviations Used in Tables section.

Martha Williams,
Director, U.S. Fish and Wildlife Service.

[FR Doc. 2022-15214 Filed 7-15-22; 8:45 am]

BILLING CODE 4333-15-P